DEPARTMENT OF STATE

[Public Notice 7013]

Certifications Pursuant to Section 609 of Public Law 101-162

SUMMARY: On April 30, 2010, the Department of State certified, pursuant to Section 609 of Public Law 101-162 (“Section 609”), that 13 nations have adopted programs to reduce the incidental capture of sea turtles in their shrimp fisheries comparable to the program in effect in the United States. The Department also certified that the fishing environments in 25 other countries and one economy, Hong Kong, do not pose a threat of the incidental taking of sea turtles protected under Section 609.

DATES: Effective Date: On Publication.

FOR FURTHER INFORMATION CONTACT: James J. Hogan, III, Office of Marine Conservation, Bureau of Oceans and International Environmental and Scientific Affairs, Department of State, Washington, DC 20520-7818; telephone: (202) 647-2252.

SUPPLEMENTARY INFORMATION: Section 609 of Public Law 101-162 prohibits imports of certain categories of shrimp unless the President certifies to the Congress not later than May 1 of each year either: (1) That the harvesting nation has adopted a program governing the incidental capture of sea turtles in its commercial shrimp fishery comparable to the program in effect in the United States and has an incidental take rate comparable to that of the United States; or (2) that the fishing environment in the harvesting nation does not pose a threat of the incidental taking of sea turtles. The President has delegated the authority to make this certification to the Department of State. Revised State Department guidelines for making the required certifications were published in the Federal Register on July 2, 1999 (Vol. 64, No. 130, Public Notice 3086).

On April 30, 2010, the Department certified 13 nations on the basis that their sea turtle protection programs are comparable to that of the United States: Belize, Colombia, Ecuador, El Salvador, Guatemala, Guyana, Honduras, Madagascar, Nicaragua, Nigeria, Pakistan, Panama and Suriname.

The Department also certified 25 shrimp harvesting nations and one economy as having fishing environments that do not pose a danger to sea turtles. Sixteen nations have shrimping grounds only in cold waters where the risk of taking sea turtles is negligible. They are: Argentina, Belgium, Canada, Chile, Denmark, Finland, Germany, Iceland, Ireland, the Netherlands, New Zealand, Norway, Russia, Sweden, the United Kingdom, and Uruguay. Nine nations and one economy only harvest shrimp using small boats with crews of less than five that use manual rather than mechanical means to retrieve nets, or catch shrimp using other methods that do not threaten sea turtles. Use of such small-scale technology does not adversely affect sea turtles. The nine nations and one economy are: The Bahamas, China, the Dominican Republic, Fiji, Hong Kong, Jamaica, Oman, Peru, Sri Lanka and Venezuela.

The Department of State withdrew Mexico's certification in March 2010 because Mexico's turtle protection program is not currently comparable to the U.S. program. An import prohibition went into effect on April 20, 2010. The United States Government and the Government of Mexico are working together to strengthen Mexico's Turtle Excluder Device (TED) program and to advance shared sea turtle conservation goals. Both governments are engaged to ensure renewal of Mexican certification within the shortest period of time consistent with the requirements of U.S. law.

The Department has certified Venezuela once again, albeit on a different basis than last year. In March 2008, the Government of Venezuela passed a law banning industrial shrimp trawling in its waters. The ban remains in effect. As a result, the Department has certified Venezuela as a nation whose fishing environment does not pose a threat of the incidental taking of sea turtles.

The Department of State has communicated the certifications under Section 609 to the Office of Field Operations of U.S. Customs and Border Protection.

In addition, this Federal Register Notice confirms that the requirement for all DS-2031 forms from uncertified nations must be originals and signed by the competent domestic fisheries authority. This policy change was first announced in a Department of State media note released on December 21, 2004.

In order for shrimp harvested with Turtle Excluder Devices (TEDs) in an uncertified nation to be eligible for importation into the United States under the exemption: “Shrimp harvested by commercial shrimp trawl vessels using TEDs comparable in effectiveness to those required in the United States”, the Department of State must determine in advance that the government of the harvesting nation has put in place adequate procedures to ensure the accurate completion of the DS-2031 forms. At this time, the Department has made such a determination only with respect to Australia, Brazil and France. Thus, the importation of TED-caught shrimp from any other uncertified nation will not be allowed. For Brazil, only shrimp harvested in the northern shrimp fishery are eligible for entry under this exemption. For Australia, shrimp harvested in the Exmouth Gulf Prawn Fishery, the Northern Prawn Fishery, the Queensland East Coast Trawl Fishery and the Torres Strait Prawn Fishery is eligible for entry under this exemption. For France, shrimp harvested in the French Guiana domestic trawl fishery are eligible for entry under this exemption.

In addition, the Department has already made a determination with regard to wild-harvest shrimp harvested in the Spencer Gulf region in Australia. This product may be exported to the U.S. using a DS-2031 under the exemption for “shrimp harvested in a manner or under circumstances determined by the Department of State not to pose a threat of the incidental taking of sea turtles.” An official of the Government of Australia still also must certify the DS-2031.

Dated: May 12, 2010.
David A. Balton,
Deputy Assistant Secretary for Oceans and Fisheries, Department of State.

[FR Doc. 2010-11846 Filed 5-17-10; 8:45 am]

BILLING CODE 4710-09-P